DEPARTMENT OF DEFENSE

Defense Intelligence Agency

[DOD-2006-0156]

Privacy Act of 1974; Systems of Records

AGENCY: Defense Intelligence Agency, DoD.

ACTION: Notice to amend a system of records.

SUMMARY: The Defense Intelligence Agency is amending a system of records notice to its existing inventory of record systems subject to the Privacy Act of 1974 (5 U.S.C. 552a), as amended.

DATES: This proposed action will be effective without further notice on August 18, 2006 unless comments are received that would result in a contrary determination.

ADDRESSES: Freedom of Information Office, Defense Intelligence Agency (DAN-1A), 200 MacDill Blvd, Washington, DC 20340-5100.

FOR FURTHER INFORMATION CONTACT: Ms. Theresa Lowery at (202) 231-1193.

SUPPLEMENTARY INFORMATION: The Defense Intelligence Agency notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: July 13, 2006.
C.R. Choate,
Alternate OSD Federal Register Liaison Officer, Department of Defense.

LDIA 0435

System Name:

DIA Awards Files (February 22, 1993, 58 FR 10613).

Changes:

* * * * *

System Name:

Delete entry and replace with: “DIA Military Awards Files”

System Location:

Delete “0001” and replace with: “5100”.

Categories of Individuals Covered by the System:

Delete entry and replace with: “Military personnel, active duty and reserve, and Coast Guard personnel during time of war, recommended for an award while assigned or attached to DIA.”

Categories of Records in the System:

Delete entry and replace with : “This file contains supporting documents for the awards nomination and the results of actions or recommendations of endorsing and approving officials for joint and service awards”.

Authority for maintenance of the system:

Delete entry and replace with: “5 U.S.C. 301, Departmental Regulations; DIA Regulation 21-9, Military Awards Program; and EO 9397 (SSN).”

* * * * *

Storage:

Delete entry and replace with: “Paper records in file folders and electronically in a database.”

* * * * *

Safeguards:

Delete entry and replace with: “Records are maintained in a building protected by security guards and are stored in vaults, safes or locked cabinets and are accessible only to authorized personnel who are properly screened, cleared and trained in the protection of privacy information. Electronic records are maintained on a classified and password protected system.”

Retention and Disposal:

Delete entry and replace with: “Records are maintained for 2 years within the Agency and then retired to the Washington National Records Centers where they are destroyed when 5 years old.”

System Manager(s) and Address:

Delete entry and replace with: “Deputy Director for Human Capital, ATTN: HCH, Defense Intelligence Agency, Washington, DC 20340-5100.”

Notification Procedure:

Delete entry and replace with: “Individuals seeking to determine whether information about themselves is contained in this system of records should address written inquiries to the Freedom of Information Act Office (DAN-1A/FOIA), Defense Intelligence Agency, 200 MacDill Blvd, Washington, DC 20340-5100.

Individuals should provide their full name, current address, telephone number and Social Security number.”

Record Access Procedures:

Delete entry and replace with: “Individuals seeking access to information about themselves contained in this system should address written inquiries to the Freedom of Information Act Office (DAN-1A/FOIA), Defense Intelligence Agency, 200 MacDill Blvd, Washington, DC 20340-5100.”

“Individual should provide their full name, current address, telephone number and Social Security Number.”

Contesting Record Procedures:

Delete entry and replace with: “DIA's rules for accessing records, for contesting contents and appealing initial agency determinations are published in DIA Regulation 12-12 “Defense Intelligence Agency Privacy Program”; 32 CFR part 319—Defense Intelligence Agency Privacy Program”; or may be obtained from the system manager.”

* * * * *

LDIA 0435

System name:

DIA Military Awards Files.

System location:

Defense Intelligence Agency, Washington, DC 20340-5100.

Categories of individuals covered by the system:

Military personnel, active duty and reserve, and Coast Guard personnel during time of war, recommended for an award while assigned or attached to DIA.

Categories of records in the system:

This file contains supporting documents for the awards nomination and the results of actions or recommendations of endorsing and approving officials for joint and service awards.

Authority for maintenance of the system:

5 U.S.C. 301, Departmental Regulations; DIA Regulation 21-9, Military Awards Program; and EO 9397 (SSN).

Purpose(s):

Information is collected and submitted to determine eligibility for awards and decorations to individuals and units while assigned or attached to the DIA. Information is required for preparation of orders and for inclusion in individual's Service record. Records are used to obtain the approval for the awarding of the decoration, for the compilation of required statistical data and provided to the Military departments when appropriate.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ set forth at the beginning of the DIA's compilation of systems of records notices apply to this system.

Policies and practices for storing, retrieving, accessing, retaining, and disposing of records in the system:

Storage:

Paper records in file folders and electronically in a database.

Retrievability:

Alphabetically by surname of individual.

Safeguards:

Records are maintained in a building protected by security guards and are stored in vaults, safes or locked cabinets and are accessible only to authorized personnel who are properly screened, cleared and trained in the protection of privacy information. Electronic records are maintained on a classified and password protected system.

Retention and disposal:

Records are maintained for 2 years within the Agency and then retired to the Washington National Records Center where they are destroyed when 5 years old.

System manager(s) and address:

Deputy Director for Human Capital. ATTN: HCH, Defense Intelligence Agency, Washington, DC 20340-5100.

Notification procedure:

Individuals seeking to determine whether information about themselves is contained in this system of records should address written inquiries to the Freedom of Information Act Office (DAN-1A/FOIA), Defense Intelligence Agency, 200 MacDill Blvd, Washington, DC 20340-5100.

Individual should provide their full name, current address, telephone number and Social Security Number.

Record access procedures:

Individuals seeking access to information about themselves contained in this system should address written inquiries to the Freedom of Information Act Office (DAN-1A/FOIA), Defense Intelligence Agency, 200 MacDill Blvd, Washington, DC 20340-5100.

Individual should provide their full name, current address, telephone number and Social Security Number.

Contesting record procedures:

DIA's rules for accessing records, for contesting contents and appealing initial agency determinations are published in DIA Regulation 12-12 “Defense Intelligence Agency Privacy Program”; 32 CFR part 319—Defense Intelligence Agency Privacy Program; or may be obtained from the system manager.

Record source categories:

Agency officials, parent Service and personnel records.

Exemptions claimed for the system:

None.

[FR Doc. 06-6306 Filed 7-18-06; 8:45 am]

BILLING CODE 5001-06-M